COMMISSION ON OCEAN POLICY

Public Meeting

AGENCY: U.S. Commission on Ocean Policy.

ACTION: Notice.

SUMMARY: The U.S. Commission on Ocean Policy will hold its fourth regional meeting, the Commission's sixth public meeting, to hear and discuss coastal and ocean issues of concern to the Southwest region of the United States, covering the coastal area of California.

DATES: Public meetings will be held Thursday, April 18, 2002 from 12:30 p.m. to 6:15 p.m. and Friday, April 19, 2002 from 8:30 a.m. to 6:00 p.m.

ADDRESSES: The meeting location is the Embassy Room, Davidson Executive Conference Center, University of Southern California, 3415 Figueroa Street, Los Angeles, California 90089-0871.

FOR FURTHER INFORMATION CONTACT: Terry Schaff, U.S. Commission on Ocean Policy, 1120 20th Street, NW, Washington, DC, 20036, 202-418-3442, schaff@oceancommission.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by April 10, 2002 to the meeting Point of Contact. Public comment periods are scheduled for Thursday, April 18 and Friday, April 19. The agenda for the meeting, including specific times for the public comment periods, and guidelines for making public comments will be posted on the Commission's website at http://www.oceancommission.gov prior to the meeting.

Dated: March 19, 2002.
Admiral James D. Watkins,
USN (ret.), Chairman, U.S. Commission on Ocean Policy.

[FR Doc. 02-7063 Filed 3-22-02; 8:45 am]

BILLING CODE 6820-WM-P